DEPARTMENT OF THE INTERIOR

Bureau of Land Management

43 CFR Part 1820

[WO-850-1820-XZ-24-1A]

RIN 1004-AD34

Application Procedures, Execution and Filing of Forms: Correction of State Office Address for Filings and Recordings, Proper Offices for Recording of Mining Claims

AGENCY: Bureau of Land Management, Interior.

ACTION: Final rule; correcting amendment.

SUMMARY: This correcting amendment amends the regulations pertaining to execution and filing of forms in order to correct the post office box number in the address of the Nevada State Office of the Bureau of Land Management (BLM) in the list of State Office addresses.

EFFECTIVE DATE: February 12, 2007.

FOR FURTHER INFORMATION CONTACT: Chandra C. Little, Regulatory Affairs Division, (202) 452-5030. Persons who use a telecommunications device for the deaf (TDD) may call the Federal Information Relay Service (FIRS) at 1-800-877-8339, 24 hours a day, 7 days a week.

ADDRESSES: You may send inquiries or suggestions to U.S. Department of the Interior, Director (630), Bureau of Land Management, Mail Stop 401 LS, 1849 C Street, NW., Washington, DC 20240; Attention: RIN-1004-AD34.

SUPPLEMENTARY INFORMATION:

I. Background

This final rule reflects the administrative action of correcting the address of the Nevada State Office of the BLM. The post office box number was incorrectly stated in the final rule published in the Federal Register on April 16, 2003 (68 FR 18554). The street address for the personal filing of documents relating to public lands in Nevada remains the same, and this correcting amendment makes no other changes in filing requirements.

Need for Correction

As published, the final regulations contain an error which may prove to be misleading and needs to be clarified.

List of Subjects in 43 CFR Part 1820

Administrative practice and procedure; Archives and records; Public lands.

Dated: February 2, 2007.
Ted R. Hudson,
Acting Division Chief, Regulatory Affairs.

For the reasons discussed in the preamble, the Bureau of Land Management amends 43 CFR part 1820 as follows:

PART 1820—APPLICATION PROCEDURES

1. The authority citation for part 1820 continues to read as follows:

Authority: 5 U.S.C. 552, 43 U.S.C. 2, 1201, 1733, and 1740.

Subpart 1821—General Information

2. Correct § 1821.10 by amending paragraph (a) by revising the address of the Bureau of Land Management, Nevada State Office, in paragraph (a) to read as follows:

§ 1821.10 Where are BLM offices located?

(a) * * *

State Offices and Areas of Jurisdiction

* * * * *

Nevada State Office, 1340 Financial Boulevard, Reno, Nevada 89502-7147, P.O. Box 12000, Reno, Nevada 89520-0006—Nevada.

* * * * *

[FR Doc. E7-2108 Filed 2-9-07; 8:45 am]

BILLING CODE 4310-84-P